FEDERAL MARITIME COMMISSION

Performance Review Board

AGENCY: Federal Maritime Commission.

ACTION: Notice.

SUMMARY: Notice is hereby given of the names of the members of the Performance Review Board.

FOR FURTHER INFORMATION CONTACT: Harriette H. Charbonneau, Director of Human Resources, Federal Maritime Commission, 800 North Capitol Street NW., Washington, DC 20573.

SUPPLEMENTARY INFORMATION: Section 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

Richard A. Lidinsky, Jr.,
Chairman.

The Members of the Performance Review Board:

1. Joseph E. Brennan, Commissioner

2. Mario Cordero, Commissioner

3. Rebecca F. Dye, Commissioner

4. Michael A. Khouri, Commissioner

5. Clay G. Guthridge, Administrative Law Judge

6. Erin M. Wirth, Administrative Law Judge

7. Florence A. Carr, Deputy Managing Director

8. Lowry A. Crook, Chief of Staff

9. Rebecca A. Fenneman, General Counsel

10. Karen V. Gregory, Secretary

11. Vern W. Hill, Director, Office of Consumer Affairs and Dispute Resolution Services

12. Peter J. King, Director, Bureau of Enforcement

13. Sandra L. Kusumoto, Director, Bureau of Certification and Licensing

14. Ronald D. Murphy, Managing Director

15. Austin L. Schmitt, Director, Bureau of Trade Analysis

[FR Doc. 2012-1982 Filed 1-30-12; 8:45 am]

BILLING CODE P